INTERNATIONAL TRADE COMMISSION

[Investigation No. 337-TA-1419]

Certain Exercise Equipment and Subassemblies Thereof; Notice of a Commission Determination Not To Review an Initial Determination Granting-in-Part Complainant's Motion for Summary Determination of Violation; Request for Written Submissions on Remedy, the Public Interest, and Bonding

AGENCY: U.S. International Trade Commission.

ACTION: Notice.

SUMMARY: Notice is hereby given that the U.S. International Trade Commission (“Commission”) has determined not to review an initial determination (“ID”) (Order No. 15) of the presiding administrative law judge (“ALJ”) granting-in-part Complainant's motion for summary determination of violation, and to request written submissions from the parties, interested government agencies, and interested persons, under the schedule set forth below, on remedy, the public interest, and bonding.

FOR FURTHER INFORMATION CONTACT: Namo Kim, Esq., Office of the General Counsel, U.S. International Trade Commission, 500 E Street SW, Washington, DC 20436, telephone (202) 205-3459. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on September 27, 2024, based upon a complaint filed on behalf of Balanced Body, Inc. of Sacramento, California (“Complainant”). 89 FR 79306-07 (Sept. 27, 2024). The complaint, as supplemented, alleges violations of section 337 of the Tariff Act of 1930, as amended, 19 U.S.C. 1337 (“section 337”), based upon the importation into the United States, the sale for importation, and the sale within the United States after importation of certain exercise equipment and subassemblies thereof by reason of infringement of one or more of claims 1-15, 19-21, and 23-26 of U.S. Patent No. 8,721,511 (“the '511 patent”), the claim of U.S. Patent No. D659,205 (“the D'205 patent”), and the claim of U.S. Patent No. D659,208 (“the D'208 patent”) (collectively, the “asserted patents”). Id. The complaint further alleges that a domestic industry exists. Id. at 79306. The Commission's notice of investigation named as respondents: Guangzhou Oasis, LLC d/b/a trysauna.com of Boulder, Colorado (“Trysauna”); Ciga Pilates of Hong Kong; Shandong Tmax Machinery Technology Co., Ltd. of Dezhou City, China (“Tmax”); Shandong VOG Sports Products Co., Ltd. of Dezhou City, China (“VOG Sports”); Dezhou Bodi Fitness Equipment Co., Ltd. of Dezhou City, China (“Dezhou”); and Suzhou Selfcipline Sports Goods Co., Ltd. of Suzhou, China (“Selfcipline”). Id. at 79307. The Office of Unfair Import Investigations (“OUII”) is also a party to this investigation. Id.

On March 10, 2025, the Commission terminated the investigation as to respondent Ciga Pilates based on withdrawal of the complaint. Order No. 9 (Feb. 11, 2025), unreviewed by Comm'n Notice (Mar. 10, 2025).

On April 9, 2025, the Commission found the remaining respondents Trysauna, Tmax, VOG Sports, Dezhou, and Selfcipline (collectively, “Defaulting Respondents”) in default. Order No. 11 (Mar. 10, 2025), unreviewed by Comm'n Notice (Apr. 9, 2025).

On April 16, 2025, the Commission terminated the investigation as to claims 2-15, 20-21, and 23-26 of the '511 patent. Order No. 13 (Mar. 24, 2025), unreviewed by Comm'n Notice (Apr. 16, 2025).

On April 10, 2025, Complainant filed a motion for summary determination of violation of section 337 by the Defaulting Respondents based on infringement of the remaining asserted claims, including claims 1 and 19 of the '511 patent, the claim of the D'205 patent, and/or the claim of the D'208 patent. Complainant requested issuance of a general exclusion order (“GEO”) and a limited exclusion order (“LEO”) against the Defaulting Respondents as to all products that infringe the asserted claims. Complainant also requested a bond of 100 percent for the entered value of the infringing articles imported during the period of Presidential review.

On April 24, 2025, OUII filed a response supporting-in-part Complainant's motion for summary determination of violation.

On April 30, 2025, the ALJ issued the subject initial determination (Order No. 15) granting-in-part and deferring-in-part Complainant's motion for summary determination of violation of section 337. Specifically, the ID found a violation by each of VOG Sports, Dezhou, and Selfcipline with respect to imported products infringing claim 1 of the '511 patent and the claim of the D'208 patent. The ID also found the domestic industry requirement is satisfied and the evidence supporting its finding of a violation by each of VOG Sports, Dezhou, and Selfcipline with respect to imported products infringing claim 1 of the '511 patent and the claim of the D'208 patent to be substantial, reliable, and probative. The ALJ indicated that Complainant had shown entitlement to a GEO with respect to both claim 1 of the '511 patent and the claim of the D'208 patent under 19 U.S.C. 1337(g)(2), as well as to a bond of 100 percent of the entered value of the infringing articles imported during the period of Presidential review, but the ALJ noted that any requested relief would be premature as there are still unresolved issues apart from the aforementioned findings of violation. ID at 26-27.

On May 9, 2025, Complainant filed a notice of withdrawal of its request for a GEO as to the claims on which the ALJ deferred summary determination in the subject ID. See Complainant's Notice of Withdrawal of Its Request for a General Exclusion Order as to Certain Patent Claims and Renewed Request for Recommended Determination on Remedy and Bond at 1.

On May 12, 2025, the ALJ issued an order (Order No. 16) stating that Complainant's notice of withdrawal resolves all issues pending before the ALJ and the investigation is now in the “remedy phase.” The order also includes a supplemented Recommended Determination not addressing the requested LEO but reiterating, as detailed in connection with the subject ID (Order No. 15), that a GEO should issue as to claim 1 of the '511 patent and the claim of the D'208 patent, and that a 100 percent bond be set. Order No. 16 at 3.

No party filed a petition for review of the subject ID (Order No. 15).

The Commission has determined not to review the subject ID.

In connection with the final disposition of this investigation, the statute authorizes issuance of, inter alia, (1) an exclusion order that could result in the exclusion of the subject articles from entry into the United States; and/or (2) cease and desist orders that could result in the respondents being required to cease and desist from engaging in unfair acts in the importation and sale of such articles. Accordingly, the Commission is interested in receiving written submissions that address the form of remedy, if any, that should be ordered. If a party seeks exclusion of an article from entry into the United States for purposes other than entry for consumption, the party should so indicate and provide information establishing that activities involving other types of entry either are adversely affecting it or likely to do so. For background, see Certain Devices for Connecting Computers via Telephone Lines, Inv. No. 337-TA-360, USITC Pub. No. 2843, Comm'n Op. at 7-10 (Dec. 1994).

The statute requires the Commission to consider the effects of that remedy upon the public interest. The public interest factors the Commission will consider include the effect that an exclusion order and cease and desist orders would have on: (1) the public health and welfare, (2) competitive conditions in the U.S. economy, (3) U.S. production of articles that are like or directly competitive with those that are subject to investigation, and (4) U.S. consumers. The Commission is therefore interested in receiving written submissions that address the aforementioned public interest factors in the context of this investigation.

If the Commission orders some form of remedy, the U.S. Trade Representative, as delegated by the President, has 60 days to approve, disapprove, or take no action on the Commission's determination. See Presidential Memorandum of July 21, 2005, 70 FR 43251 (July 26, 2005). During this period, the subject articles would be entitled to enter the United States under bond, in an amount determined by the Commission and prescribed by the Secretary of the Treasury. The Commission is therefore interested in receiving submissions concerning the amount of the bond that should be imposed if a remedy is ordered.

Written Submissions: Parties to the investigation, interested government agencies, and any other interested parties are encouraged to file written submissions on the issues of remedy, the public interest, and bonding. In the initial submission, Complainant is also requested to identify the remedy sought and submit proposed remedial orders for the Commission's consideration. Complainant is further requested to state the date that the asserted patents expire, to provide the HTSUS subheadings under which the accused products are imported, and to supply the identification information for all known importers of the products at issue in this investigation. The initial written submissions and proposed remedial orders must be filed no later than close of business on June 13, 2025. Reply submissions must be filed no later than the close of business on June 20, 2025. All submissions from third parties and/or interested government agencies are limited to 10 pages. No further submissions on any of these issues will be permitted unless otherwise ordered by the Commission.

Persons filing written submissions must file the original document electronically on or before the deadlines stated above pursuant to 19 CFR 210.4(f). Submissions should refer to the investigation number (“Inv. No. 337-TA-1419”) in a prominent place on the cover page and/or the first page. (See Handbook for Electronic Filing Procedures, https://www.usitc.gov/documents/handbook_on_filing_procedures.pdf). Persons with questions regarding filing should contact the Secretary, (202) 205-2000.

Any person desiring to submit a document to the Commission in confidence must request confidential treatment by marking each document with a header indicating that the document contains confidential information. This marking will be deemed to satisfy the request procedure set forth in Rules 201.6(b) and 210.5(e)(2) (19 CFR 201.6(b) & 210.5(e)(2)). Documents for which confidential treatment by the Commission is properly sought will be treated accordingly. Any non-party wishing to submit comments containing confidential information must serve those comments on the parties to the investigation pursuant to the applicable Administrative Protective Order. A redacted non-confidential version of the document must also be filed with the Commission and served on any parties to the investigation within two business days of any confidential filing. All information, including confidential business information and documents for which confidential treatment is properly sought, submitted to the Commission for purposes of this investigation may be disclosed to and used: (i) by the Commission, its employees and Offices, and contract personnel (a) for developing or maintaining the records of this or a related proceeding, or (b) in internal investigations, audits, reviews, and evaluations relating to the programs, personnel, and operations of the Commission including under 5 U.S.C. appendix 3; or (ii) by U.S. Government employees and contract personnel, solely for cybersecurity purposes. All contract personnel will sign appropriate nondisclosure agreements. All nonconfidential written submissions will be available for public inspection on EDIS.

The Commission vote for this determination took place on May 30, 2025.

The authority for the Commission's determination is contained in section 337 of the Tariff Act of 1930, as amended (19 U.S.C. 1337), and in part 210 of the Commission's Rules of Practice and Procedure (19 CFR part 210).

By order of the Commission.
Issued: May 30, 2025.
Lisa Barton,
Secretary to the Commission.

[FR Doc. 2025-10184 Filed 6-4-25; 8:45 am]

BILLING CODE 7020-02-P